DEPARTMENT OF TRANSPORTATION

Federal Highway Administration

Environmental Impact Statement: Stanislaus County, CA

AGENCY: Federal Highway Administration (FHWA), DOT.

ACTION: Notice of Intent.

SUMMARY: The FHWA, on behalf of the California Department of Transportation (Caltrans), is issuing this notice to advise the public that an Environmental Impact Statement (EIS) will be prepared for a proposed highway project in Stanislaus County, California.

DATES: Public scoping meetings to be held Wednesday, September 8, 2010 and Monday, September 13, 2010. All written scoping comments must be received by September 30, 2010.

ADDRESSES: The Wednesday, September 8, 2010 meeting will occur at the Oakdale Community Center, 110 South Second Avenue, Oakdale, California 95361. The Monday, September 13, 2010 meeting will occur at the Salida Regional Library, 4835 Sisk Road, Salida, California 95368.

FOR FURTHER INFORMATION CONTACT: Gail Miller, Senior Environmental Planner, Central Sierra Environmental Analysis Branch, California Department of Transportation, 2015 East Shields Avenue, Suite 100, Fresno, California 93726, (559) 243-8274 or (209) 948-3646, gail_miller@dot.ca.gov.

SUPPLEMENTARY INFORMATION: Effective July 1, 2007, FHWA assigned, and Caltrans assumed, environmental responsibilities for this project pursuant to 23 U.S.C. 327. Caltrans as the delegated National Environmental Policy Act agency, in cooperation with the North County Corridor Transportation Expressway Authority, will prepare an EIS on a proposal for the North County Corridor highway project in Stanislaus County, California. The North County Corridor project begins from State Route 99 in the vicinity of Kiernan Avenue/the Salida community, and extends east approximately 25 miles to State Route 108/120, east of the city of Oakdale. The North County Corridor project is proposed to relocate State Route 108 with a freeway/expressway and is considered necessary to accommodate anticipated traffic growth in northern Stanislaus County, alleviate traffic on parallel roadways, accommodate multi-modal travel, provide interregional connectivity, and to provide for economic growth. Total funding for the future 25 mile relocation of State Route 108 has not been identified. As a result, Caltrans is planning a phased approach as additional funds become available for the construction of the future 25 mile freeway/expressway facility with interchanges, grade-separated railroad crossings, at-grade intersections, frontage roads, and street alignments.

Current alternatives under consideration at this time include, but not necessarily limited to, (1) taking no action and (2) consideration of at least three different alignments for the potential relocation of State Route 108. It is anticipated that the proposed project may require the following federal permits and approvals: A Biological Opinion from the United States Fish & Wildlife Service, approval of a PM10-PM2.5 Hot Spot Analysis by the Inter-Agency Consultation Committee, an Air Quality Conformity determination from the FHWA, Section 401, 402 and 404 permits under the Clean Water Act and a Farmland Conversion Impact Rating For Corridor Type Projects from the United States Soil Conservation Service. The EIS for this initial phase of the proposed project would authorize preservation of the corridor from McHenry to State Route 99 and construction and operation of the first constructible phase from McHenry to State Route 108/120. Subsequent funded project phases will require either re-evaluation and/or subsequent environmental documentation for project-specific impacts.

Letters describing the proposed action and soliciting comments will be sent to appropriate Federal, State, Participating and Cooperating Agencies, and local agencies, and to private organizations and citizens who have previously expressed or are known to have interest in this proposal. Letters will be sent to the following tribal groups: Tule River Indian Tribe, Southern Sierra Miwuk Nation, and North Valley Yokuts Tribe.

The environmental scoping process begins with the publication of this Notice of Intent. Public scoping meetings will be held in the Oakdale Community Center, 110 South Second Avenue, Oakdale, California 95361 on Wednesday, September 8, 2010 from 6:30 p.m. to 8 p.m., and in the Salida Regional Library, 4835 Sisk Road, Salida, California 95368 on Monday, September 13, 2010 from 6:30 p.m. to 8 p.m.

To ensure that the full range of issues related to this proposed action are addressed and all significant issues identified, comments and suggestions are invited from all interested parties. Comments or questions concerning this proposed action and the EIS should be directed to Caltrans at the address provided above. All written scoping comments must be received by September 30, 2010.

(Catalog of Federal Domestic Assistance Program Number 20.205, Highway Planning and Construction. The regulations implementing Executive Order 12372 regarding intergovernmental consultation on Federal programs and activities apply to this program.)

Issued on: August 23, 2010.
Cindy Vigue,
Director, State Programs Federal Highway Administration Sacramento, California.

[FR Doc. 2010-21336 Filed 8-26-10; 8:45 am]

BILLING CODE 4910-22-P